DEPARTMENT OF ENERGY

Federal Energy Regulatory Commission

Combined Notice of Filings

Take notice that the Commission has received the following Natural Gas Pipeline Rate and Refund Report filings:

Filings Instituting Proceedings

Docket Numbers: RP12-450-000.

Applicants: Tennessee Gas Pipeline Company, L.L.C.

Description: Fuel Tracker 2012 to be effective 4/1/2012.

Filed Date: 3/1/12.

Accession Number: 20120301-5078.

Comments Due: 5 p.m. ET 3/13/12.

Docket Numbers: RP12-451-000.

Applicants: ANR Pipeline Company.

Description: Phase II Marshfield Reduction Project Settlement to be effective 4/1/2012.

Filed Date: 3/1/12.

Accession Number: 20120301-5079.

Comments Due: 5 p.m. ET 3/13/12.

Docket Numbers: RP12-452-000.

Applicants: KO Transmission Company.

Description: Transportation Retainage Adjustment Filing 2012 to be effective 4/1/2012.

Filed Date: 3/1/12.

Accession Number: 20120301-5080.

Comments Due: 5 p.m. ET 3/13/12.

Docket Numbers: RP12-453-000.

Applicants: Equitrans, L.P.

Description: Non-Conforming and Negotiated Rate Agreement Filing—Antero Resources to be effective 4/1/2012.

Filed Date: 3/1/12.

Accession Number: 20120301-5082.

Comments Due: 5 p.m. ET 3/13/12.

Docket Numbers: RP12-454-000.

Applicants: Millennium Pipeline Company, LLC.

Description: Negotiated Rate Service Agreement Filing—Contract Number 27912 to be effective 3/17/2012.

Filed Date: 3/1/12.

Accession Number: 20120301-5083.

Comments Due: 5 p.m. ET 3/13/12.

Docket Numbers: RP12-454-001.

Applicants: Millennium Pipeline Company, LLC.

Description: Negotiated Rate Service Agreement Filing 27912 to be effective 4/1/2012.

Filed Date: 3/1/12.

Accession Number: 20120301-5160.

Comments Due: 5 p.m. ET 3/13/12.

Docket Numbers: RP12-455-000.

Applicants: Panhandle Eastern Pipe Line Company, LP.

Description: Fuel Filing on 3/1/12 to be effective 4/1/2012.

Filed Date: 3/1/12.

Accession Number: 20120301-5084.

Comments Due: 5 p.m. ET 3/13/12.

Docket Numbers: RP12-456-000.

Applicants: Trunkline Gas Company, LLC.

Description: Fuel Filing on 3/1/12 to be effective 4/1/2012.

Filed Date: 3/1/12.

Accession Number: 20120301-5087.

Comments Due: 5 p.m. ET 3/13/12.

Docket Numbers: RP12-457-000.

Applicants: Southwest Gas Storage Company.

Description: Fuel Filing on 3/1/2012 to be effective 4/1/2012.

Filed Date: 3/1/12.

Accession Number: 20120301-5094.

Comments Due: 5 p.m. ET 3/13/12.

Docket Numbers: RP12-458-000.

Applicants: Eastern Shore Natural Gas Company.

Description: Revision of General Terms and Conditions to be effective 4/1/2012.

Filed Date: 3/1/12.

Accession Number: 20120301-5099.

Comments Due: 5 p.m. ET 3/13/12.

Docket Numbers: RP12-459-000.

Applicants: Florida Gas Transmission Company, LLC.

Description: Fuel Filing on 3/1/12 to be effective 4/1/2012.

Filed Date: 3/1/12.

Accession Number: 20120301-5103.

Comments Due: 5 p.m. ET 3/13/12.

Docket Numbers: RP12-460-000.

Applicants: Empire Pipeline, Inc.

Description: Annual Report Pursuant to GT&C 23.5 to be effective N/A.

Filed Date: 3/1/12.

Accession Number: 20120301-5104.

Comments Due: 5 p.m. ET 3/13/12.

Docket Numbers: RP12-461-000.

Applicants: Texas Gas Transmission, LLC.

Description: Filing to Implement Rate Schedule WNS on Permanent Basis to be effective 4/1/2012.

Filed Date: 3/1/12.

Accession Number: 20120301-5106.

Comments Due: 5 p.m. ET 3/13/12.

Docket Numbers: RP12-462-000.

Applicants: Golden Pass Pipeline LLC.

Description: 2012 Annual Operational Purchases and Sales to be effective N/A.

Filed Date: 3/1/12.

Accession Number: 20120301-5108.

Comments Due: 5 p.m. ET 3/13/12.

Docket Numbers: RP12-463-000.

Applicants: Maritimes & Northeast Pipeline, L.L.C.

Description: Negotiated Rate Agreement—Shell Energy NA to be effective 3/1/2012.

Filed Date: 3/1/12.

Accession Number: 20120301-5145.

Comments Due: 5 p.m. ET 3/13/12.

Docket Numbers: RP12-464-000.

Applicants: Natural Gas Pipeline Company of America LLC.

Description: Removal of Expired Agreements to be effective 4/1/2012.

Filed Date: 3/1/12.

Accession Number: 20120301-5168.

Comments Due: 5 p.m. ET 3/13/12.

Docket Numbers: RP12-465-000.

Applicants: Equitrans, L.P.

Description: Annual Filing for Pipeline Safety Cost Tracker to be effective 4/1/2012.

Filed Date: 3/1/12.

Accession Number: 20120301-5198.

Comments Due: 5 p.m. ET 3/13/12.

Docket Numbers: RP12-466-000.

Applicants: National Fuel Gas Supply Corporation.

Description: Cancellation of SS-2 Rate Schedule to be effective 4/1/2012.

Filed Date: 3/1/12.

Accession Number: 20120301-5204.

Comments Due: 5 p.m. ET 3/13/12.

Docket Numbers: RP12-467-000.

Applicants: Golden Pass Pipeline LLC.

Description: Golden Pass Pipeline Annual Retainage Report for 2012 to be effective N/A.

Filed Date: 3/1/12.

Accession Number: 20120301-5207.

Comments Due: 5 p.m. ET 3/13/12.

Docket Numbers: RP12-468-000.

Applicants: Colorado Interstate Gas Company LLC.

Description: CIG Semi-Annual Fuel Filing to be effective 4/1/2012.

Filed Date: 3/1/12.

Accession Number: 20120301-5215.

Comments Due: 5 p.m. ET 3/13/12.

Docket Numbers: RP12-469-000.

Applicants: Sea Robin Pipeline Company, LLC.

Description: Hurricane Surcharge Filing on 3/1/12 to be effective 4/1/2012.

Filed Date: 3/1/12.

Accession Number: 20120301-5239.

Comments Due: 5 p.m. ET 3/13/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-313-001.

Applicants: Sea Robin Pipeline Company, LLC.

Description: Hurricane Compliance Filing on 3/1/12 to be effective 8/24/2010.

Filed Date: 3/1/12.

Accession Number: 20120301-5233.

Comments Due: 5 p.m. ET 3/13/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 2, 2012.
Nathaniel J. Davis, Sr.,
Deputy Secretary

[FR Doc. 2012-5768 Filed 3-8-12; 8:45 am]

BILLING CODE 6717-01-P